DEPARTMENT OF ENERGY

Energy Information Administration

Agency Information Collection Extension

AGENCY: U.S. Energy Information Administration (EIA), Department of Energy.

ACTION: Notice and Request for OMB Review and Comment.

SUMMARY: The EIA has submitted an information collection request to the OMB for extension under the provisions of the Paperwork Reduction Act of 1995. The information collection requests a three-year extension of its Petroleum Supply Reporting System, OMB Control Number 1905-0165. The proposed collection will produce data used in statistical analytical reports as well as forecasts produced by the U.S. Energy Information Administration. Reports and forecasts are essential to accomplish the agency's mission to promote sound policy making, efficient markets, and public understanding of energy and its interactions with the economy and the environment. Users of the data include government officials, industry and financial analysts, and the public. EIA proposes one change to Form EIA-812, Form EIA-813, and Form EIA-803 and no other changes to:

• Form EIA-22M, “Monthly Biodiesel Production Survey”

• Form EIA-800, “Weekly Refinery and Fractionator Report”

• Form EIA-802, “Weekly Product Pipeline Report”

• Form EIA-803, “Weekly Crude Oil Stocks Report”

• Form EIA-804, “Weekly Imports Report”

• Form EIA-805, “Weekly Bulk Terminal and Blender Report”

• Form EIA-809, “Weekly Oxygenate Report”

• Form EIA-810, “Monthly Refinery Report”

• Form EIA-812, “Monthly Product Pipeline Report” (proposed change)

• Form EIA-813, “Monthly Crude Oil Report”

• Form EIA-814, “Monthly Imports Report”

• Form EIA-815, “Monthly Bulk Terminal and Blender Report”

• Form EIA-816, “Monthly Natural Gas Plant Liquids Report”

• Form EIA-817, “Monthly Tanker and Barge Movement Report”

• Form EIA-819, “Monthly Oxygenate Report”

• Form EIA-820, “Annual Refinery Report.”

EIA proposes to discontinue biannually collecting information on Form EIA-812 on petroleum product tank storage capacity and related biannual separate reporting of stocks held in those tanks and to discontinue collection of crude oil lease stocks on Form EIA-813 and Form EIA-803. EIA currently uses Parts 5, 6, and 7 of Form EIA-812 to collect petroleum product storage capacity and related stock data in those tanks from pipeline companies twice a year (as of March 31 and September 30). Collecting biannual tank storage capacity and related stocks in those tanks by product pipelines did not provide useful information for assessing available petroleum supplies. Product pipeline inventories held in tanks are used for operational purposes, not commercial purposes. EIA will still collect pipeline linefill stocks along with stocks and biannual storage capacity data for petroleum products held at terminals and refineries. Discontinuing the biannual collection of storage capacity and related tank stocks on Form EIA-812 will eliminate confusion in analyzing storage capacity utilization, stock levels, improve the quality of petroleum storage data and reduce reporting burden on this form.

EIA will discontinue collecting lease inventories on Form EIA-813, “Monthly Crude Oil Report” and Form EIA-803, “Weekly Crude Oil Stocks Report.” Lease inventories are inventories stored at crude oil production sites. The purpose of stocks held on oil and gas producing leases (lease stocks) is to facilitate oil and gas production operations. Lease stocks are typically held only long enough for oil to be picked up by trucks or otherwise removed from production sites. While the total number of barrels held as lease stocks is significant, the barrels are widely dispersed at producing sites with only small quantities at any given location. For these reasons, we have determined that continued tracking of lease stocks on Form EIA-803 and Form EIA-813 has limited value for assessment of crude oil supplies available to markets. In addition, our research has shown that some or all of the barrels reported by respondents as lease stocks are actually outside of the U.S. and regional crude oil balances developed by EIA. This affects estimates that are calculated to assess supply because barrels may be recorded as crude oil production, which is the first supply component of our balance, only after the barrels are withdrawn from lease stocks. EIA will create and publish historical data series of crude oil stocks excluding lease stocks in order to meet analyst requirements for crude oil inventory data that are consistent over time.

DATES: Comments regarding this proposed information collection must be received on or before June 10, 2016. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503, and to Robert Meriam, robert.merriam@eia.gov.

FOR FURTHER INFORMATION CONTACT: Requests for additional information or copies of the information collection instrument and instructions should be directed to Robert Merriam, 1000 Independence Ave. SW., Washington, DC 20585. The forms and instructions are available on EIA's Web site at: http://www.eia.gov/survey/.

SUPPLEMENTARY INFORMATION: This information collection request contains: (1) OMB No. 1905-0165; (2) Information Collection Request Title: Petroleum Supply Reporting System; (3) Type of Request: Three year extension; (4) Purpose: The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by or in conjunction with the EIA.

The weekly petroleum supply surveys (Forms EIA-800, EIA-802, EIA-803, EIA-804, EIA-805 and EIA-809) are designed to provide an early, initial estimate of weekly petroleum refinery and fractionator operations, inventory levels, and imports of selected petroleum products in a timely manner. The information appears in the publications listed below and is also available electronically on EIA's Web site at http://www.eia.doe.gov/.

Publications: Internet only publications are the Weekly Petroleum Status Report (http://www.eia.gov/petroleum/supply/weekly/), Short-Term Energy Outlook (http://www.eia.gov/forecasts/steo/), and This Week in Petroleum (http://www.eia.gov/petroleum/weekly/).

The monthly petroleum supply surveys (Forms EIA-22M, EIA-810, EIA-812, EIA-813, EIA-814, EIA-815, EIA-816, EIA-817, and EIA-819) are designed to provide statistically reliable and comprehensive monthly information to EIA, other Federal agencies, and the private sector for use in forecasting, policy making, planning, and analysis activities. The information appears in the publications listed below and is also available electronically on EIA's Web site at http://www.eia.doe.gov/.

Publications: Internet only publications are the Petroleum Supply Monthly (http://www.eia.gov/petroleum/supply/monthly/), Company-Level Imports (http://www.eia.gov/petroleum/imports/companylevel/), the Petroleum Supply Annual, Volume 1 (http://www.eia.gov/petroleum/supply/annual/volume1/), the Annual Energy Outlook (http://www.eia.gov/forecasts/aeo/index.cfm); and the Monthly Biodiesel Production Report (http://www.eia.gov/biofuels/biodiesel/production/).

The annual refinery survey (Form EIA-820) provides data on refinery capacities, fuels consumed, natural gas consumed as hydrogen feedstock, and crude oil receipts by method of transportation, for operating and idle petroleum refineries (including new refineries under construction), and refineries shutdown during the previous year. The information appears in the Refinery Capacity Report (http://www.eia.gov/petroleum/refinerycapacity/) and the Refinery Outage Report (http://www.eia.gov/petroleum/refinery/outage/).

Please refer to the proposed forms and instructions for more information about the purpose, who must report, when to report, where to submit, the elements to be reported, detailed instructions, provisions for confidentiality, and uses (including possible nonstatistical uses) of the information. For instructions on obtaining materials, see the FOR FURTHER INFORMATION CONTACT section. (5) Annual Estimated Number of Respondents: 4,472; (6) Annual Estimated Number of Total Responses: 101,833; (7) Annual Estimated Number of Burden Hours: 211,257; (8) Annual Estimated Reporting and Recordkeeping Cost Burden: $6,100,000. The cost of the burden hours is estimated to be $15,214,729 (211,257 burden hours times $72.02 per hour). Other than the cost of burden hours, EIA estimates that there are no additional costs for generating, maintaining and providing the information.

Statutory Authority: Section 13(b) of the Federal Energy Administration Act of 1974, Public Law 93-275, codified at 15 U.S.C. 772(b).

Issued in Washington, DC, on May 5, 2016.
Nanda Srinivasan,
Director, Office of Survey Development and Statistical Integration, U. S. Energy Information Administration.

[FR Doc. 2016-11070 Filed 5-10-16; 8:45 am]

BILLING CODE 6450-01-P